DEPARTMENT OF ENERGY

Office of Energy Efficiency and Renewable Energy

Federal Energy Management Program; Federal Purchasing of Energy-Efficient Standby Power Devices

AGENCY: Office of Energy Efficiency and Renewable Energy, Department of Energy.

ACTION: Notice of public meeting.

SUMMARY: The Department of Energy (DOE or Department) will hold a public meeting to discuss plans for implementing Executive Order 13221, which directs government agencies to purchase devices with minimal standby power—at or below one watt where available. The Department is interested in receiving comments on which products using standby power are purchased in significant numbers for use in federal facilities, which of these have models available with low standby power levels at or near 1 watt, and comments on the Department's proposed approach for identification of low-standby power products.

DATES: The public meeting will be held on Wednesday, October 24, 2001, from 9 a.m. to 4 p.m.

ADDRESSES: The meeting will be held at the Crystal City Hilton, 2399 Jefferson Davis Highway, Arlington, Virginia 22201. Written comments are welcome, either before or after the public meeting, but no later than October 26, 2001. Please submit written comments to: Ms. Alison Thomas, U.S. Department of Energy, Office of Energy Efficiency and Renewable Energy, Federal Energy Management Program, EE-90, 1000 Independence Avenue, SW., Washington, DC 20585-0121. Telephone: (202) 586-2099; Telefax: (202) 586-3000. Please label comments both on the envelope and on the documents and submit them for DOE receipt by October 26, 2001. Please submit one signed copy and a computer diskette (WordPerfect or Microsoft Word). The Department will also accept electronically-mailed comments, e-mailed to alison.thomas@ee.doe.gov.

Additional information on standby power, federal purchasing, and Executive Order 13221 can be found on the DOE website at: http://www.eren.doe.gov/femp/procurement. Copies of the agenda, a list of attendees, the public comments received, and this notice may be read at the Freedom of Information Reading Room, U.S. Department of Energy, Forrestal Building, Room 1E-190, 1000 Independence Avenue, SW., Washington, DC 20585, (202) 586-3142, between the hours of 9 a.m. and 4 p.m., Monday through Friday, except Federal holidays.

FOR FURTHER INFORMATION, CONTACT: Ms. Alison Thomas, Program Manager, U.S. Department of Energy, Office of Energy Efficiency and Renewable Energy, EE-90, 1000 Independence Avenue, SW., Washington, DC 20585-0121, (202) 586-2099, email alison.thomas@ee.doe.gov.

SUPPLEMENTARY INFORMATION: On July 31, 2001, President Bush signed Executive Order 13221, directing government agencies to purchase devices with minimal standby power—at or below one watt where available. He further ordered the Department of Energy (DOE), in consultation with the General Services Administration (GSA), the Defense Logistics Agency (DLA) and others, to develop a list of products that comply with this requirement. If no devices with standby at or below 1 W are available within a product category, DOE is to recommend a standby power level that is cost-effective.

The DOE Federal Energy Management Program (FEMP) will hold an informal public meeting to present its proposed approach to implementing this Order and to solicit views from the public and from federal agencies themselves on practical and effective implementation steps.

The workshop will cover initial ideas on the range of low-power standby products to be included, how to test and certify standby power levels, how to create a public-domain database on such products based on voluntary data submitted by federal suppliers and manufacturers, and procedures for periodic updating of the database and the categories of products.

Background information on standby power, the Executive Order, and FEMP's ideas on implementation will be presented in the morning. Topics will include the relation of this new effort to FEMP's other activities in support of energy-efficient federal purchasing and to the Energy Star™ labeling program.

After a lunch break, the meeting will be open to brief presentations (up to 5 minutes each) and discussion of comments from the public, including federal agencies. FEMP is interested in receiving feedback from vendors, manufacturers, and other interested parties.

The workshop agenda includes:

• Why are we here?—the Executive Order 13221, workshop objectives, FEMP's approach

• Background on standby power with questions

• Technical issues with questions

• Implementing the Executive Order

• Proposed approach for identifying products and schedule with questions

• Open for public comments

The meeting will be conducted in an informal, conference style. There shall be no discussion of proprietary information, costs or prices, market shares, or other commercial matters regulated by the U.S. antitrust laws. After the meeting and expiration of the period for submitting written statements, the Department will begin consideration of the comments received.

If you would like to participate in the meeting, receive meeting materials, or be added to the DOE mailing list to receive future notices and information regarding the energy conservation program for consumer products and commercial and industrial equipment, please contact Ms. Alison Thomas at (202) 586-2099 or alison.thomas@ee.doe.gov.

Issued in Washington, DC, on September 26, 2001.
David K. Garman,
Assistant Secretary for Energy Efficiency and Renewable Energy.

[FR Doc. 01-24605 Filed 10-1-01; 8:45 am]

BILLING CODE 6450-01-P